DEPARTMENT OF AGRICULTURE

Forest Service

Caney Recreation Facilities Development

AGENCY: Forest Service, USDA.

ACTION: Revised notice of intent to prepare an environmental impact statement.

SUMMARY: Authority: The Forest Service is requesting this Revised Notice Of Intent be published pursuant to the Council on Environmental Quality implementing regulations of the National Environmental Policy Act at 40 CFR 1501.7.

Need for Revision: On September 29, 2003, the Daniel Boone National Forest published a notice of intent to prepare an environmental impact statement in the Federal Register (Vol. 68, No. 188, pages 55934-55935). The Project was entitled “Development of Boat Ramp and Associated Structures at Caney Creek.” The project included a proposal for development of a boat ramp, comfort station, access road, and associated infrastructure in the Caney Creek drainage on Cave Run Lake. Due to public input for the proposal, the Forest Service decided to revise the proposal and prepare an environmental impact statement that includes all reasonably foreseeable future developments at the Caney Site. The Caney Recreation Facilities Development proposal represents an expansion of the earlier proposal.

Proposed Action: The Forest Service is proposing to allow construction of a boat ramp, lodge, cabins and marina within the area identified in the original recreational development plans for Cave Run Lake. Also included in the proposal will be an amendment to the Forest Plan.

Decision to be Made: The Forest Supervisor will be the official responsible for making a decision on whether to allow development of recreational facilities and infrastructure in the Caney Site Project Area. If the Forest Supervisor determines that development is warranted, he will decide which facilities will be developed, where they will be located and where infrastructure will be located. He will decide which mitigation measures and monitoring requirements to include with the project. Finally, the Forest Supervisor will determine whether the Forest Land and Resource Management Plan will need to be amended.

The Army Corps of Engineers (ACOE) will have a related decision concerning this project. The Responsible Official for the ACOE will decide whether or not to approve use of ACOE land for access to the proposed area.

Scoping Process: Project descriptions were mailed to more than 90 individuals and groups on April 2, 2005.

Date Comments Are Due: Comments concerning the scope of this analysis should be received by May 31, 2005.

Lead Agency: USDA Forest Service, Daniel Boone National Forest.

Cooperating Agency: Army Corps of Engineers, Louisville District.

Responsible Officials: The Forest Supervisor for the Daniel Boone National Forest, located at 1700 Bypass Road, Winchester, KY 40391, is the responsible official for this proposed action for the Forest Service. The Commander and District Engineer for the Louisville District at PO Box 59, Louisville Kentucky 40201 is the responsible official for this proposed action for the Army Corps of Engineers.

SUPPLEMENTARY INFORMATION: Send Comments to: Written comments can be mailed to: Morehead District Ranger, Daniel Boone National Forest, Attn: Caney Recreation Facilities Development, 2375 KY 801 South, Morehead, Kentucky 40351. Written comments can be sent by facsimile to: (606) 784-6435. Electronic comments should include the title line “Caney Recreation Facilities Development” and be in a common digital format and sent to: comments-southern-daniel-boone-morehead@fs.fed.us.

Oral or hand-delivered comments must be provided at the District Ranger's office during normal business hours. Normal business hours for the Marched District Office in Morehead Kentucky are from 8 a.m. to 4:30 p.m. (M-F). For submitting oral comments by telephone, call (606) 784-6428 and identify the purpose of your call. The receptionist will connect you with someone who will document your comments.

FOR FURTHER INFORMATION CONTACT: Julia Waller-Eling at the Daniel Boone National Forest, Morehead Ranger District, 2375 KY 801 S., Morehead KY 40351; by phone at (859) 784-6428; or by e-mail at jeling@fs.fed.us.

Need for the Proposal: The need for this facility was identified in 1968 in the Cave Run Composite Recreation Plan and was reaffirmed in 1985 and 2004 in the Land and Resource Management Plans for the Daniel Boone National Forest. This development would provide a type of visitor accommodation currently unavailable at Cave Run Lake, provide additional marina space (existing marinas on the Lake are at current capacity), help to ease crowding at other boat ramps in the northern portion of the lake and provide better launching conditions for sailboats. Over the last several years, local governments and various publics have expressed renewed interest in developing facilities at Cave Run Lake. In 2003 and 2004, federal earmark money was given to the Daniel Boone NF specifically for analyzing the development of facilities at the Caney Site and complete planning for such facilities.

Purpose of the Proposal: The purpose of this project is to meet the above needs of the public and the land at the Caney Site. The 2004 Forest Plan contains direction for recreation projects based on research of recreation use tends and current and future demand. Goal 7 of the Plan is to “Provide a sustainable mix of desired uses, valued characteristics, and service to improve the long-term benefit to local communities and the public.” Objective 7.0.A is to “Provide an opportunity for development of a lodge at Cave Run Lake.”

Additionally, USFS 2000 Strategic Plan directs the agency to work with communities and manage recreation areas and programs on NFS lands to levels compatible with ecosystem substainability objectives by:

—Working with communities to help determine recreation opportunities and priorities.

—Redirecting opportunities and use.

—Improving management of facilities and special places.

Preliminary Issues: The following are preliminary issues related to this proposal:

The development of facilities, access roads, and infrastructure has the potential to alter the hydrology of several stream head wetland seeps in the area, potentially causing damaging impacts to the plant communities present.

The construction of a marina or boat ramp in a previously development cove of the lake has the potential to change the use patterns of the area potentially increasing user conflict and displacing existing types of use and users from the area.

Permits or Licenses Required: The Forest Service will need a realty permit from the Army Corps of Engineers to allow use of ACOE land for infrastructure related to this proposal.

Estimated Dates for DEIS and FEIS: The DEIS is expected to be filed with the Environmental Protection Agency and to be available for public review and comment by March 2006. At that time, the Environmental Protection Agency (EPA) will publish a Notice of Availability (NOA) of the DEIS in the Federal Register. The comment period on the DEIS will be a minimum of 45 days from the date the EPA publishes the NOA in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also environmental objections that could be raised at the draft environmental impact statement stage, but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can be meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the comment period ends on the DEIS, the comments will be analyzed, considered, and responded to by the Forest Service in preparing the FEIS. The FEIS is scheduled for completion in September 2006. The responsible official will consider the comments, responses, environmental consequences discussed in the FEIS, and applicable laws, regulations, and policies in making a decision regarding this proposed action.

The responsible official will document the decision and reasons for the decision in a Record of Decision. That decision may be subject to appeal in accordance with 36 CFR Part 215.

Dated: March 28, 2005.
Benjamin T. Worthington,
Forest Supervisor, Daniel Boone National Forest.

[FR Doc. 05-7036 Filed 4-7-05; 8:45 am]

BILLING CODE 3410-11-M